OFFICE OF MANAGEMENT AND BUDGET

Public Availability of Year 2002 Agency Inventories Under the Federal Activities Inventory Reform Act of 1998 (Pub. L. 105-270) (“FAIR Act”).

AGENCY: Office of Management and Budget, Executive Office of the President.

ACTION: Notice of public availability of agency inventories of activities that are not inherently governmental and of activities that are inherently governmental.

SUMMARY: Agency inventories of activities that are not inherently governmental are now available to the public from the agencies listed below, in accordance with the “Federal Activities Inventory Reform Act of 1998” (Pub. L. 105-270) (“FAIR Act”). Agency inventories of activities that are inherently governmental are also now available to the public from the agencies listed below. This is the fourth and final release of the 2002 FAIR Act inventories. The Office of Federal Procurement Policy has made available a summary FAIR Act User's Guide through its Internet site: http://www.whitehouse.gov/OMB/procurement/index.html. The User's Guide should help interested parties review 2002 FAIR Act inventories, and gain access to agency inventories through agency web-site addresses.

The FAIR Act requires OMB to publish an announcement of public availability of agency inventories of activities that are not inherently governmental upon completion of OMB's review and consultation process concerning the content of the agencies' inventory submissions. After review and consultation with OMB, the agency inventories are made available to the public. Interested parties who disagree with the agency's initial judgment can challenge the inclusion or the omission of an activity on the list and, if not satisfied with this review, may also demand a higher agency review/appeal.

Mitchell E. Daniels, Jr.,
Director.

Fourth and Final FAIR Act Release 2002

Agency | Contact
Commission on Civil Rights | Tina Louise Martin (202) 376-8364, www.usccr.gov.
Department of Defense, Office of the Inspector General | Jonilyn Benarick (703) 604-9872, www.dodig.osd.mil/pubs/index.html.
Department of Transportation, Office of the Inspector General | Jacqueline Weber (202) 366-1495, www.oig.dot.gov.
Department of Veterans Affairs | Julie Gough (202) 273-5048, www.va.gov/OPP/fairact/default.htm.
National Transportation Safety Board | Steve Goldberg (202) 314-6210, www.ntsb.gov/abt_ntsb/fair_act.htm.
Office of National Drug Control Policy | Daniel Petersen (202) 395-6745, www.whitehousedrugpolicy.gov.
Office of Science and Technology | Stan Sokul (202) 456-6070, www.ostp.gov.

[FR Doc. 03-6498 Filed 3-18-03; 8:45 am]

BILLING CODE 3110-01-P